DEPARTMENT OF HOMELAND SECURITY

Coast Guard

46 CFR Part 67

[USCG-2001-8825]

RIN 1625-AA28 (Formerly RIN 2115-AG08)

Vessel Documentation: Lease Financing for Vessels Engaged in the Coastwise Trade; Correction

AGENCY: Coast Guard, DHS.

ACTION: Final rule; correction.

SUMMARY: On February 4, 2004, the Coast Guard published a final rule in the Federal Register, which inadvertently contained errors in the preamble. This document corrects those errors.

DATE: Effective on March 4, 2004.

FOR FURTHER INFORMATION CONTACT: Patricia Williams, Deputy Director, National Vessel Documentation Center, Coast Guard, telephone 304-271-2506.

SUPPLEMENTARY INFORMATION: The Coast Guard published a final rule in the Federal Register of February 4, 2004 (69 FR 5390; FR Doc. 04-2230). The rule contained inadvertent errors in the preamble, under the heading, List of Changes to the SNPRM. These errors are nonsubstantive, but we are correcting them to prevent confusion.

In final rule FR Doc. 04-2230 published on February 4, 2004 (69 FR 5390), make the following corrections. On page 5392, in the third column, in item number 12, under the List of Changes to the SNPRM, remove the first paragraph which begins with the words, “The grandfather provision * * *” and ends with the words, “* * * prohibited by this rule.” In its place add the following paragraph:

“The grandfather provision in § 67.20(b) has one change. The date before which an endorsement must be issued to be eligible for the grandfather provision is changed from the effective date of this final rule to the date of publication of this rule. The purpose of the grandfather provision is to protect existing business arrangements. Changing the effective date (which, at the time the SNPRM was written, we expected to be 30 days after the publication date) of the rule to the date of publication prevents the establishment of new business arrangements that would be prohibited by this rule.”

The second and third paragraphs under item 12 remain unchanged.

Dated: February 26, 2004.
Joseph J. Angelo,
Director of Standards, Marine Safety, Security, and Environmental Protection.

[FR Doc. 04-4782 Filed 3-3-04; 8:45 am]

BILLING CODE 4910-15-P